NATIONAL SCIENCE FOUNDATION

Agency Information Collection Activities: Comment Request; Additional Reporting Requirements for Mathematical Sciences Research Institutes

AGENCY: National Science Foundation.

ACTION: Submission for OMB review; comment request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays).

Copies of the submission may be obtained by calling 703-292-7556.

SUPPLEMENTARY INFORMATION: NSF may not conduct or sponsor a collection of information unless the collection of information displays a currently valid OMB control number and the agency informs potential persons who are to respond to the collection of information that such persons are not required to respond to the collection of information unless it displays a currently valid OMB control number.

Title of Collection: Additional Reporting Requirements for Mathematical Sciences Research Institutes.

OMB Number: 3145-NEW.

Type of Request: Establishment of a new information collection.

Type of Request: Intent to seek approval to establish an information collection.

Proposed Project: Use of the Information: Mathematical Sciences Research Institutes are national resources that aim to advance research in the mathematical sciences through programs supporting discovery and dissemination of knowledge in mathematics and statistics and enhancing connections to related fields in which the mathematical sciences can play important roles. Institute activities help focus the attention of some of the best mathematical minds on problems of particular importance and timeliness. Institutes are also community resources that involve a broad segment of U.S.-based mathematical sciences researchers in their activities. The goals of the Mathematical Sciences Research Institutes program include advancing research in the mathematical sciences, increasing the impact of the mathematical sciences in other disciplines, and expanding the talent base engaged in mathematical research in the United States. The data collection on participants information at each of the currently supported institutes for this request includes: Participant identifications, contact information, affiliations, demographic information, institute programs participated, durations, and NSF support received.

Respondents: Respondents are PIs of current Mathematical Sciences Research Institutes program awards.

Estimated Number of Annual Respondents: 6-7 individuals.

Burden on the Public: 175 hours.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Dated: August 20, 2020.
Suzanne H. Plimpton,
Reports Clearance Officer, National Science Foundation.

[FR Doc. 2020-18623 Filed 8-24-20; 8:45 am]

BILLING CODE 7555-01-P